FEDERAL COMMUNICATIONS COMMISSION

Information Collection Being Reviewed by the Federal Communications Commission Under Delegated Authority, Comments Requested

AGENCY: Federal Communications Commission.

ACTION: Notice; request for comments.

SUMMARY: As part of its continuing effort to reduce paperwork burden(s) and as required by the Paperwork Reduction Act (PRA) of 1995 (44 U.S.C. 3501-3520), the Federal Communications Commission (FCC) invites the general public and other Federal agencies to take this opportunity to comment on the following information collection(s). Comments are requested concerning: whether the proposed collection of information is necessary for the proper performance of the functions of the Commission, including whether the information shall have practical utility; the accuracy of the Commission's burden estimate(s); ways to enhance the quality, utility, and clarity of the information collected; ways to minimize the burden of the collection of information on the respondents, including the use of automated collection techniques or other forms of information technology; and further ways to reduce the information burden for small business concerns with fewer than 25 employees.

The FCC may not conduct or sponsor a collection of information unless it displays a currently valid OMB Control Number. No person shall be subject to any penalty for failing to comply with a collection of information subject to the Paperwork Reduction Act (PRA) that does not display a valid OMB Control Number.

DATES: Written Paperwork Reduction Act (PRA) comments should be submitted on or before July 23, 2013. If you anticipate that you will be submitting PRA comments, but find it difficult to do so within the period of time allowed by this notice, you should advise the FCC contact listed below as soon as possible.

ADDRESSES: Submit your PRA comments to Nicholas A. Fraser, Office of Management and Budget (OMB), via fax at: (202) 395-5167 or via the Internet at Nicholas_A._Fraser@omb.eop.gov and to Leslie F. Smith, Office of Managing Director (OMD), Federal Communications Commission (FCC), via the Internet at Leslie.Smith@fcc.gov. To submit your PRA comments by email, send them to: PRA@fcc.gov.

FOR FURTHER INFORMATION CONTACT: Leslie F. Smith, Office of Managing Director (OMD), Federal Communications Commission (FCC), (202) 418-0217, or via the Internet at Leslie.Smith@fcc.gov.

SUPPLEMENTARY INFORMATION:

OMB Control Number: 3060-0655.

Title: Requests for Waivers of Regulatory Fees and Application Fees.

Form Number: N/A.

Type of Review: Extension of a currently approved collection.

Respondents: Business or other for-profit entities.

Number of Respondents and Responses: 340 respondents; 340 responses.

Estimated Time per Response: 1.0 hour.

Frequency of Response: On occasion reporting requirements.

Obligation to Respond: Required to obtain or retain benefits. Statutory authority for this information collection is contained in 47 U.S.C. 158 and 47 U.S.C. 159.

Total Annual Burden: 340 hours.

Total Annual Cost: $0.00.

Nature and Extent of Confidentiality: Parties filing information may request that the information be withheld from disclosure. Requests for confidentiality are processed in accordance with FCC rules under 47 CFR § 0.459. This information collection does not affect individuals; however, should any personally identifiable information (PII) be submitted, the FCC has a system of records notice, FCC/OMD-9, “Commission Registration System (CORES)” to cover the collection, use, storage, and destruction of this PII, as required by the Privacy Act of 1974, as amended, 5 U.S.C. 552a.

Privacy Act Impact Assessment: No impacts.

Needs and Uses: Pursuant to 47 U.S.C. 158 and 47 U.S.C. 159, the FCC is required to collect application fees and annual regulatory fees from its licensees and permittees. Licensees and permittees may request waivers of these fees where good cause is shown and where waiver or deferral of the fee would promote the public interest. Financial information and reports that are submitted to support waiver requests are ordinarily maintained as business records and can be easily assembled. The FCC uses the information submitted in support of the waiver request to determine if such waiver is warranted.

Federal Communications Commission.
Gloria J. Miles,
Federal Register Liaison, Office of the Secretary, Office of Managing Director.

[FR Doc. 2013-12439 Filed 5-23-13; 8:45 am]

BILLING CODE 6712-01-P